NUCLEAR REGULATORY COMMISSION

[NRC-2013-0230]

Draft Fiscal Years 2014-2018 Strategic Plan

AGENCY: Nuclear Regulatory Commission.

ACTION: Draft NUREG; correction and supplemental information.

SUMMARY: The U.S. Nuclear Regulatory Commission (NRC) is correcting a notice that appeared in the Federal Register on March 5, 2014. The notice notified the public of the availability of draft NUREG-1614, Volume 6, “U.S. Nuclear Regulatory Commission Strategic Plan, Fiscal Years 2014-2018.” This action is necessary to correct the NRC's Agencywide Documents Access and Management System (ADAMS) accession number for draft NUREG-1614, and to notify the public that the draft Strategic Plan can be found on the NRC's public Web site at http://www.nrc.gov/about-nrc/plans-performance/draft-strategic-plan-2014-2018.html.

DATES: This correction is effective on March 11, 2014.

ADDRESSES: Please refer to Docket ID NRC-2013-0230 when contacting the NRC about the availability of information regarding this document. You may access publicly-available information related to this action by any of the following methods:

• Federal Rulemaking Web site: Go to http://www.regulations.gov and search for Docket ID NRC-2013-0230. Address questions about NRC dockets to Carol Gallagher; telephone: 301-287-3422; email: Carol.Gallagher@nrc.gov. For technical questions, contact the individual listed in the FOR FURTHER INFORMATION CONTACT section of this final rule.

• NRC's ADAMS: You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

The NRC's draft Strategic Plan may be viewed online on the NRC's Public Web site at http://www.nrc.gov/about-nrc/plans-performance/draft-strategic-plan-2014-2018.html.

FOR FURTHER INFORMATION CONTACT: Cindy Bladey, Office of Administration, U.S. Nuclear Regulatory Commission, Washington, DC, 20555-0001; telephone: 301-287-0949; email: Cindy.Bladey@nrc.gov.

SUPPLEMENTARY INFORMATION: The NRC is correcting the ADAMS accession number for draft NUREG-1614 in the notice published on March 5, 2014 (79 FR 12531). In Fr. Doc. 2014-04830, on page 12531, in the second column; second bullet under Section A., Accessing Information; last sentence; “ML13254A234” is corrected to read “ML14023A605.”

The NRC is notifying the public that the draft Strategic Plan can be found on the NRC's public Web site at http://www.nrc.gov/about-nrc/plans-performance/draft-strategic-plan-2014-2018.html.

Dated at Rockville, Maryland, this 6th day of March 2014.
For the Nuclear Regulatory Commission.
Cindy Bladey,
Chief, Rules, Announcements, and Directives Branch, Division of Administrative Services, Office of Administration.

[FR Doc. 2014-05240 Filed 3-10-14; 8:45 am]

BILLING CODE 7590-01-P